DEPARTMENT OF LABOR

Veterans' Employment and Training Service

[Docket No. VETS-2024-10772]

Advisory Committee on Veterans' Employment, Training and Employer Outreach (ACVETEO): Meeting

AGENCY: Veterans' Employment and Training Service (VETS), Department of Labor (DOL).

ACTION: Notice; correction.

SUMMARY: The Veterans' and Employment and Training Service (VETS) published a document in the Federal Register on May 16, 2024 giving notice of an ACVETEO meeting on June 11, 2024. The document contained an incorrect date for the Notice of Intent to Attend the Meeting. This notice corrects the error.

DATES: This correction is effective May 31, 2024.

FOR FURTHER INFORMATION CONTACT: Mr. Gregory Green, Designated Federal Official for the ACVETEO, ACVETEO@dol.gov, (202) 693-4734.

SUPPLEMENTARY INFORMATION:

Correction

In the Federal Register of May 16, 2024 (89 FR 42902), correct the paragraph as described below.

1. On page 42902 paragraph 6, titled Addresses, replace the date in the 5th line after notice of intent to read: Friday, May 31, 2024.

Authority and Signature

James D. Rodriguez, Assistant Secretary of Labor for Veterans' Employment and Training Service, directed the preparation of this notice. The authority for this notice is under Title 38, U.S. Code, section 4110. ACVETEO is a non-discretionary federal advisory committee and is subject to the Federal Advisory Committee Act (FACA), 5 U.S.C. 10.

Signed in Washington, DC, this 24th day of May 2024.
James D. Rodriguez,
Assistant Secretary, Veterans' Employment and Training Service.

[FR Doc. 2024-11933 Filed 5-30-24; 8:45 am]

BILLING CODE 4510-79-P